DEPARTMENT OF DEFENSE

Office of the Secretary

[Transmittal No. 22-39]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-39 with attached Policy Justification and Sensitivity of Technology.

Dated: June 10, 2024.
Aaron T. Siegel,
Alternate OSD Federal Register Liaison Officer, Department of Defense.

BILLING CODE 6001-FR-P

BILLING CODE 6001-FR-C

Transmittal No. 22-39

Notice of Proposed Issuance of Letter of Offer Pursuant to Section 36(b)(1) of the Arms Export Control Act, as amended

(i) Prospective Purchaser: Government of Belgium

(ii) Total Estimated Value:

Major Defense Equipment * | $ 0 million
Other | $127 million
TOTAL | $127 million

(iii) Description and Quantity or Quantities of Articles or Services under Consideration for Purchase: Foreign Military Sales (FMS) case BE-D-QBL, was below congressional notification threshold at $98.4 million for non-MDE F-16 sustainment. The Government of Belgium has requested the case be amended to include additional non-Major Defense Equipment (non-MDE) items and services. This case amendment will increase the total case value above the non-MDE notification threshold and thus require notification of the entirety of the FMS case.

Major Defense Equipment (MDE):

None

Non-MDE:

Included are AN/ARC-210 radios; classified software, Computer Program Identification Numbers (CPINs), and software integration support; Electronic Warfare (EW) database support; test support and equipment; aircraft and munitions support and support equipment; flight simulator support; additional hardware and software delivery and support; spare and repair parts, consumables and accessories; maintenance and maintenance support; mission planning system sustainment; facilities, utilities, and information technology support at U.S. Air Force bases; classified and unclassified publications and technical documentation; and U.S. Government and contractor engineering, technical and logistics support services, studies and surveys; and other related elements of logistical and program support.

(iv) Military Department: Air Force (BE-D-QBL)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: July 19, 2022

* As defined in Section 47(6) of the Arms Export Control Act.

POLICY JUSTIFICATION

Belgium—F-16 Sustainment

The Government of Belgium has requested to buy additional F-16 sustainment support that will be added to a previously implemented case. The original FMS case, valued at $98.4 million, included F-16 sustainment, consisting of AN/ARC-210 radios; classified software, CPINs, and software integration support; EW database support; test support and equipment; aircraft and munitions support and support equipment; flight simulator support; additional hardware and software delivery and support; spare and repair parts, consumables and accessories; maintenance and maintenance support; mission planning system sustainment; facilities, utilities, and information technology support at U.S. Air Force bases; classified and unclassified publications and technical documentation; and U.S. Government and contractor engineering, technical and logistics support services, studies and surveys; and other related elements of logistical and program support. This notification will include more of the same items and services. The estimated total cost is $127 million.

This proposed sale will support the foreign policy and national security objectives of the United States by improving the security of a NATO ally which is an important force for political stability and economic progress in Europe.

The proposed sale will improve Belgium's capability to meet current and future threats by maintaining its F-16 fleet in combat-ready status and providing rotational forces to NATO's Eastern flank. Belgium will have no difficulty absorbing these articles and services into its armed forces.

The proposed sale of this equipment and support will not alter the basic military balance in the region.

The principal contractor will be Lockheed Martin, Bethesda, MD. There are no known offset agreements proposed in connection with this potential sale.

Implementation of this proposed sale will not require the assignment of any additional U.S. Government or contractor representatives to Belgium.

There will be no adverse impact on U.S. defense readiness as a result of this proposed sale.

Transmittal No. 22-39

Notice of Proposed Issuance of Letter of Offer Pursuant to Section 36(b)(1) of the Arms Export Control Act

Annex

Item No. vii

(vii) Sensitivity of Technology:

1. The AN/ARC-210 is a voice communications radio system equipped with HAVE QUICK II, which employs cryptographic technology. Other waveforms may be included as needed.

2. The Electronic Warfare Integrated Reprogramming Database (EWIRDB) is used by USG engineers in the reprogramming and creation of shareable Mission Data Files for the AN/ALQ-131 electronic countermeasures pod on the F-16 aircraft.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Belgium can provide substantially the same degree of protection for the sensitive technology being released as the U.S. Government. This sale is necessary in furtherance of the U.S. foreign policy and national security objectives outlined in the Policy Justification.

6. All defense articles and services listed in this transmittal have been authorized for release and export to the Government of Belgium.

[FR Doc. 2024-12947 Filed 6-12-24; 8:45 am]

BILLING CODE 6001-FR-P